SECURITIES AND EXCHANGE COMMISSION

[Release No. 34-59627; File No. SR-NYSEAmex-2009-02]

Self-Regulatory Organizations; Notice of Filing and Immediate Effectiveness of Proposed Rule Change by NYSE Amex LLC Formally Adopting and Codifying Its Wireless Data Communications Initiatives

April 2, 2009.

Correction:In FR Document No. E9-7291, published on Wednesday, April 1, 2009, beginning on page 14834, third column, first paragraph, fifth line, the name of the exchange is corrected to read “NYSE Amex LLC”.

Florence E. Harmon,
Deputy Secretary.

[FR Doc. E9-7973 Filed 4-7-09; 8:45 am]

BILLING CODE 8010-01-P